DEPARTMENT OF HEALTH AND HUMAN SERVICES

Administration for Children and Families

[CFDA Number: 93.567]

Announcing the Award of Nine Single-Source Grants Under the Voluntary Agencies Matching Grant Program

AGENCY: Office of Refugee Resettlement, Administration for Children and Families, HHS.

ACTION: Announcing the Award of Nine Single-Source Grants under the Voluntary Agencies Matching Grant Program.

SUMMARY: The Voluntary Agencies Matching Grant Program was created by Congress in 1979. The program is intended to work in consort with the Refugee and Cuban & Haitian Entrant Reception and Placement (R&P) programs. Thus, competition under the Voluntary Agency Matching Grant Program has historically been limited to those voluntary agencies providing R&P services through cooperative agreements with the Department of State or the Department of Homeland Security. Congress confirmed this approach to the program in the 1986 Refugee Assistance Extension Act. The Administration for Children and Families (ACF) has determined that using the solicited single-source application process is in the best interest of the government as it will achieve the same result and is more cost effective than the published Funding Opportunity Announcement process.

DATES: October 1, 2014 through September 30, 2015.

FOR FURTHER INFORMATION CONTACT: Thomas Giossi, Program Manager, Division of Refugee Services, Office of Refugee Resettlement, 370 L'Enfant Promenade SW., Washington, DC 20447. Telephone: 202-401-5720. Email: Thomas.Giossi@acf.hhs.gov .

SUPPLEMENTARY INFORMATION: The Voluntary Agencies Matching Grant Program, under the Office of Refugee Resettlement (ORR), is an alternative to public cash assistance designed to enable refugees, asylees, and other ORR eligible populations, to become self-sufficient through employment within 120 to 180 days from date of arrival into the United States (U.S.) and/or the date of eligibility for ORR services; however, clients must be enrolled within 31 days of becoming eligible to ensure that adequate services are provided and self-sufficiency is achieved and maintained within the period of eligibility. Services provided include, but are not limited to, case management, employment services, housing and utilities, food, transportation, cash allowance, health and medical, English language training, social adjustment, and other support services. In all cases, self-sufficiency must be achieved without accessing public cash assistance and all program services cease at 180 days from program eligibility.

The Voluntary Agencies Matching Grant Program was designed to work directly with Reception and Placement (R&P) programs. Congress confirmed this approach to the program in the 1986 Refugee Assistance Extension Act. Therefore, funding under this program is open only to those nine voluntary agencies that already provide R&P services through a cooperative agreement with the U.S. Department of State (DOS) or the U.S. Department of Homeland Security (DHS).

Participating voluntary agencies agree to match the ORR grant with cash and in-kind contributions of goods and services from the community. Currently, ORR awards $2 for every $1 raised by the agency up to a maximum of $2,200 in federal funds per client.

Single-source awards are made to the following organizations:

Grantee name | Location | Total federal annual award
Church World Service/Immigration & Refugee Program | New York, NY | $5,885,000
Domestic and Foreign Missionary Society of the Protestant Episcopal Church of the U.S.A | New York, NY | 4,241,600
Ethiopian Community Development Council/Refugee Resettlement Program | Arlington, VA | 2,059,200
HIAS, Inc. (Hebrew Immigrant Aid Society)/Refugee and Immigrant Services | New York, NY | 1,566,400
International Rescue Committee/Resettlement | New York, NY | 9,143,200
Lutheran Immigration & Refugee Service | Baltimore, MD | 7,530,600
United States Conference of Catholic Bishops | Washington, DC | 18,977,200
US Committee for Refugees and Immigrants | Arlington, VA | 11,501,600
World Relief Corporation of National Association of Evangelicals/Refugee & Immigration Programs | Baltimore, MD | 4,404,400

Statutory Authority: Section 412(c)(1)(A) of the Immigration and Nationality Act (8 U.S.C. 1522(c)(1)(A); Section 7(a) and (b) of the Refugee Assistance Extension Act of 1986 (Pub. L. 99-605) (8 U.S.C. 1522 note).

Christopher Beach,
Senior Grants Policy Specialist, Office of Administration.

[FR Doc. 2015-01841 Filed 1-30-15; 8:45 am]

BILLING CODE 4184-01-P